ENVIRONMENTAL PROTECTION AGENCY

40 CFR Part 158

[EPA-HQ-OPP-2023-0428; FRL-11111-01-OCSPP]

Pesticides; Petition Seeking Rulemaking for Registration of Neonicotinoid Insecticides and Other Systemic Insecticides; Notice of Availability and Request for Comment

AGENCY: Environmental Protection Agency (EPA).

ACTION: Petition for rulemaking.

SUMMARY: The Environmental Protection Agency (EPA) is announcing the availability of and seeking public comment on a petition received from the Public Employees for Environmental Responsibility (PEER) and the American Bird Conservancy (ABC) requesting that the Agency initiate a rulemaking for neonicotinoid insecticides and other systemic insecticides. PEER and ABC believe the Agency should amend the existing regulations under the Federal Insecticide, Rodenticide, and Fungicide Act (FIFRA) to require all applicants and registrants of neonicotinoid and other systemic insecticides to provide performance (efficacy) data to the Agency in applications for registration and during registration review.

DATES: Comments must be received on or before January 23, 2024.

ADDRESSES: Submit your comments, identified by docket identification (ID) number EPA-HQ-OPP-2023-0428, through https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Caleb Hawkins, Office of Chemical Safety and Pollution Prevention, Environmental Protection Agency, 1200 Pennsylvania Ave. NW, Washington, DC 20460-0001; telephone number: (202) 566-1430; email address: hawkins.caleb@epa.gov.

SUPPLEMENTARY INFORMATION:

I. Does this action apply to me?

This action is directed to the public in general and may be of interest to a wide range of stakeholders including pesticide registrants, environmental, human health, and agricultural advocates, pesticide users, and members of the public interested in the use of pesticides. This listing is not intended to be exhaustive but rather provides a guide for readers regarding entities likely to be affected by his action. Because others may also be interested, the Agency has not attempted to describe all the specific entities that may be affected by this action.

II. What action is the Agency taking?

EPA requests public comment on a petition received from PEER and ABC that asks EPA to take the following actions:

• Amend 40 CFR 158.400(e)(1) to require the submission of product performance data for neonicotinoid and other systemic insecticides, and

• Amend 40 CFR 158.400(e)(1) to require that, if not already submitted to the Agency, existing registrants of a neonicotinoid or other systemic insecticides submit efficacy within 180 days of the promulgation of the rule.

A copy of the petition is available in the docket.

III. What should I consider as I prepare my comments for EPA?

A. Submitting CBI

Do not submit Confidential Business Information (CBI) to EPA through regulations.gov or email. Clearly mark the part or all of the information that you claim to be CBI. In addition to one complete version of the comment that includes information claimed as CBI, a copy of the comment that does not contain the information claimed as CBI must be submitted for inclusion in the public docket. Information so marked will not be disclosed except in accordance with procedures set forth in 40 CFR part 2.

B. Multimedia Submissions

Multimedia submissions (audio, video, etc.) must be accompanied by a written comment. The written comment is considered the official comment and should include discussion of all points you wish to make. EPA will generally not consider comments or comment contents located outside of the primary submission (i.e., on the web, cloud, or other file sharing system).

C. Tips for Preparing Your Comments

When preparing and submitting your comments, see the commenting tips at https://www.epa.gov/dockets/commenting-epa-dockets. Please note that once submitted, comments cannot be edited or removed from the docket. EPA may publish any comment received to its public docket.

Authority: 7 U.S.C. 136 et seq.

Dated: November 16, 2023.
Michal Freedhoff,
Assistant Administrator, Office of Chemical Safety and Pollution Prevention.

[FR Doc. 2023-25739 Filed 11-22-23; 8:45 am]

BILLING CODE 6560-50-P